DEPARTMENT OF JUSTICE

Notice of Lodging Proposed Consent Decree

In accordance with Departmental Policy, 28 CFR 50.7, notice is hereby given that a proposed Consent Decree in United States of America v. County of Sacramento, Case Number 2:06-CV-00908 GEB-GGH, was lodged with the United States District Court for the Eastern District of California on April 26, 2006.

This proposed Consent Decree concerns a complaint filed by the United States against the County of Sacramento, pursuant to 33 U.S.C. 1311(a) and 1344, to obtain injunctive relief from and impose civil penalties against the Defendants for violating the Clean Water Act by discharging pollutants without a permit into waters of the United States. The propsoed Consent Decree resolves these allegations by requiring the Defendants to restore the impacted areas and perform mitigation and to pay a civil penalty.

The Department of Justice will accept written comments relating to this proposed Consent Decree for thirty (30) days from the date of publication of this Notice. Please address comments to Edmund F. Brennan, Assistant United States Attorney, and refer to United States of America v. County of Sacramento, Case Number 2:06-CV-00908-GEB-GGH.

The proposed Consent Decree may be examined at the Clerk's Office, United States District Court for the Eastern District of California, 501 I Street, Sacramento, California. In addition, the proposed Consent Decree may be viewed at http://www.usdoj.gov/enrd/open.html.

Edmund F. Brennan,
Assistant U.S. Attorney.

[FR Doc. 06-4376 Filed 5-10-06; 8:45 am]

BILLING CODE 4410-15-M